DEPARTMENT OF LABOR

Bureau of Labor Statistics

Data Users Advisory Committee; Notice of Meeting and Agenda

The Data Users Advisory Committee will meet on Tuesday, November 17, 2009. The meeting will be held in the Postal Square Building, 2 Massachusetts Avenue, NE., Washington, DC.

The Data Users Advisory Committee is a technical committee composed of data users from various sectors of the U.S. economy, including labor, business, research, academic and government communities. Committee members are called upon to provide advice on technical matters related to the collection, tabulation, and analysis of the Bureau's statistics, on its published reports, and on the broader aspects of its overall mission and function.

The meeting will be held in Meeting Room 3 of the Postal Square Building Conference Center. The schedule and agenda for the meeting are as follows:

8:30 Registration.

9:00 The State of BLS: Commissioner's report.

9:45 Strategic planning: Information gathering and analysis.

11:15 Employment projections: Status of program initiatives.

1:30 Green jobs: Plans for measurement.

2:30 Alleged undercount in the Survey of Occupational Injuries and Illnesses: The debate to date and current research plans.

3:30 BLS Outreach: Development of metrics.

4:45 Conclusion.

The meeting is open to the public. Any questions concerning the meeting should be directed to Tracy A. Jack, Data Users Advisory Committee, on 202-691-5869. Individuals with disabilities, who need special accommodations, should contact Ms. Jack at least two days prior to the meeting date.

Signed at Washington, DC the 27th day of October 2009.
Philip L. Rones,
Deputy Commissioner, Bureau of Labor Statistics.

[FR Doc. E9-26222 Filed 10-30-09; 8:45 am]

BILLING CODE 4510-24-P